SMALL BUSINESS ADMINISTRATION

13 CFR Part 120

RIN 3245-AF83

Business Loan Program Regulations: Incorporation of London Interbank Offered Rate (LIBOR) Base Rate and Secondary Market Pool Interest Rate Changes

AGENCY: U.S. Small Business Administration (SBA).

ACTION: Interim Final Rule, notice of reopening of comment period.

SUMMARY: SBA is reopening the comment period for an additional 90 days.

DATES: Comments on the interim final rule on Business Loan Program Regulations: Incorporation of London Interbank Offered Rate (LIBOR) Base Rate and Secondary Market Pool Interest Rate Changes, must be received on or before April 14, 2009.

ADDRESSES: You may submit comments, identified by 3245-AF83, by any of the following methods:

• Federal eRulemaking Portal: http://www.regulations.gov. Follow the instructions for submitting comments.

• Mail, Hand Delivery/Courier: Grady Hedgespeth, Director, Office of Financial Assistance, U.S. Small Business Administration, 409 3rd Street, SW., Washington, DC 20416.

All comments will be posted on http://www.regulations.gov. If you wish to include within your comment confidential business information (CBI) as defined in the Privacy and Use Notice/User Notice at http://www.regulations.gov, and you do not want that information disclosed, you must submit the comments by either Mail or Hand Delivery and you must address the comment to Grady Hedgespeth, Director, Office of Financial Assistance. In the submission, you must highlight the information that you consider to be CBI and explain why you believe this information should be held confidential. SBA will make a final determination, in its discretion, of whether information is CBI and, therefore, the comments will not be published.

FOR FURTHER INFORMATION CONTACT: Grady Hedgespeth, Director, Office of Financial Assistance, 202-205-7562, or grady.hedgespeth@sba.gov.

SUPPLEMENTARY INFORMATION: On November 13, 2008, SBA published in the Federal Register an interim final rule permanently adding a base rate of LIBOR for lenders to use when pricing 7(a) loans and allowing for secondary market loan pools to be formed with weighted average coupon rates. (73 FR 67099). This rule was added to help ensure continued availability of capital to small businesses and to improve liquidity in and efficiency of the secondary market for SBA loans. The original comment period ended on December 15, 2008. SBA is reopening the comment period for a limited time until April 14, 2009 in order to solicit additional comments as our lending partners and secondary market participants continue to implement the two changes allowed in the interim final rule. Some SBA partners are still updating their systems to incorporate LIBOR based loans. SBA's recently published Procedural Notice No. 5000-1081: One Month LIBOR Plus 3 Percent Allowed as SBA Base Rate (Nov. 14, 2008) and SBA Information Notice: Implementation of SBA's Addition of LIBOR Plus 3 Percent as a Base Rate (Nov. 20, 2008), both of which can be found at http://www.sba.gov. Additionally, procedures for weighted average coupon pools were recently released by SBA. SBA Procedural Notice No. 5000-1086: Initiative to Facilitate the Sale of SBA 7(a) Loans on the Secondary Market (Dec. 17, 2008), which can be found at http://www.sba.gov. SBA would like to ensure that lenders and secondary market participants are afforded an opportunity to comment on the interim final rule as they fully implement these program changes.

Authority: 15 U.S.C. 634.

Eric Zarnikow,
Associate Administrator, Office of Capital Access.

[FR Doc. E9-430 Filed 1-13-09; 8:45 am]

BILLING CODE 8025-01-P